DEPARTMENT OF COMMERCE

National Institute of Standards and Technology

National Conference on Weights and Measures 93rd Annual Meeting

AGENCY: National Institute of Standards and Technology, Commerce.

ACTION: Notice.

SUMMARY: The Annual Meeting of the 93rd National Conference on Weights and Measures (NCWM) will be held July 13 to 17, 2008. Publication of this notice on the NCWM's behalf is a public service; NIST does not endorse, approve, or recommend any of the proposals contained in this notice or in the NCWM publications listed. The meetings are open to the public but registration is required.

DATES: July 13-17, 2008.

Meeting Location: Sheraton Burlington Hotel, Burlington, Vermont.

FOR FURTHER INFORMATION CONTACT: Carol Hockert, Chief, National Institute of Standards and Technology, Weights and Measures Division, Mailstop 2600, Gaithersburg, MD 20899-2600, or by telephone (301) 975-5507, Fax: (301) 975-8091, or e-mail: carol.hockert@nist.gov. Please see NCWM Publication 16 at http://www.ncwm.net, which contains meeting agendas, registration forms and hotel information.

SUPPLEMENTARY INFORMATION: The NCWM is an organization of state, county and city weights and measures officials, business and industry representatives, Federal Agencies and other members of the public that come together to, among other things, develop recommendations for standards and test procedures related to weights and measures technology, administration and enforcement. Pursuant to (15 U.S.C. 272(b)(6)), the Weights and Measures Division of the National Institute of Standards and Technology (NIST) supports the NCWM as one of the forums it uses to solicit comments and recommendations on revising or updating a variety of publications related to legal metrology. NIST promotes uniformity among the states in their laws, regulations, test methods and equipment that are used in regulating the weighing and measuring devices, packaging and labeling and other activities in trade and commerce. Publication of this notice on the NCWM's behalf is a public service; NIST does not endorse, approve, or recommend any of the proposals contained in this notice or in the NCWM publications listed. The meetings are open to the public but registration is required.

The following are descriptions of some of the items that will be considered for adoption at the meeting. Comments will be taken on these and other issues during public hearings on July 14, 2008. The Committees will meet after the hearings to finalize the proposals for possible adoption at voting sessions on July 16 and 17, 2008. The Committees may withdraw or carryover items that need additional development.

The Specifications and Tolerances Committee will consider proposed amendments to NIST Handbook 44, “Specifications, Tolerances, and other Technical Requirements for Weighing and Measuring Devices.” Those items address weighing and measuring devices used in commercial measurement applications, that is, devices that are normally used to buy from or sell to the general public or used for determining the quantity of product sold among businesses. Issues on the agenda of the NCWM Laws and Regulations Committee relate to proposals to amend NIST Handbook 130, “Uniform Laws and Regulations in the area of legal metrology, method of sale of commodities regulations and engine fuel labeling.” This notice only contains information about significant items on the NCWM agenda so many others are not presented.

NCWM Specifications and Tolerances Committee

The following items are proposals to amend NIST Handbook 44:

General Code

Item 310-1. G.S.8. Provisions for Sealing Adjustable Components on Weighing and Measuring Devices: This proposal includes language that clarifies the means that can be used to prohibit devices from facilitating fraud as it applies to the electronically programmed and coded components of weighing or measuring devices. The intent of this proposal is to reduce electronic manipulation or alteration that results in consumers being overcharged for the products or services that they purchase. Examples of fraud issues in the past few years have involved: (1) Users altering, manipulating, or interfering with metrological software interfaced or installed in equipment; and (2) users gaining access to the calibration features of scales because the device was not set up in accordance with the manufacturer's instructions. The Committee is proposing to update the requirements for security seals and other access limitations to the accuracy and other metrological adjustments on weighing and measuring equipment.

Scales Code

Item 320-2. Weight Units and Tare Determinations: This item will require scales to determine net weights with accurate mathematical calculations that take into account the value of the increments displayed at different capacities on devices with single or multiple weighing ranges.

Liquid-Measuring Devices

Item 330-1. Temperature Compensation for Liquid-Measuring Devices: This proposal describes the design specifications, test procedures, and user responsibilities on retail liquid measuring devices that may be equipped with an automatic means to allow the delivery of fuel with its volume adjusted to a specific reference temperature.

NCWM Laws and Regulations Committee

The following voting items are proposals to amend the Engine Fuel Law and Regulation and the Method of Sale of Commodities Regulation in NIST Handbook 130:

Items 223-1 and 237-1. Revisions to the Uniform Engine Fuels, Petroleum Products and Automotive Lubricants Law and Regulation: These proposals include amendments that will update the laws and regulations to reflect the increased use of alternative fuels. They include new provisions for full disclosure of product information to consumers and allow state authorities to inspect records and grant waivers of fuel specifications in the event of a natural disaster or other emergency.

Item 250-1. The Method of Sale of Fresh Fruits and Vegetables: This proposal contains suggested methods of sale (e.g., weight, dry measure, or count) for a wide variety of fruit and vegetables offered for sale in retail stores, farmers markets, and at roadside stands. The intent of the recommendation is to provide consumers with information on the net quantity of contents in packages and to facilitate value comparison.

Dated: June 16, 2008.
Richard F. Kayser,
Chief Scientist.

[FR Doc. E8-14087 Filed 6-20-08; 8:45 am]

BILLING CODE 3510-13-P